DEPARTMENT OF HEALTH AND HUMAN SERVICES

Administration for Children and Families

Proposed Information Collection Activity; Family Violence Prevention and Services Program (OMB #0970-0280)

AGENCY: Family and Youth Services Bureau, Administration on Children, Youth and Families, Administration for Children and Families (ACF), HHS.

ACTION: Request for public comment.

SUMMARY: The Administration on Children, Youth and Families, Family and Youth Services Bureau plans to extend data collection for the Family Violence Prevention and Services Program (OMB #0970-0280; Expiration Date: March 31, 2021). No changes are proposed to the existing information collection.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: The Family Violence Prevention and Services Act (FVPSA) Program has a legislative requirement for grantees to report on activities carried out throughout their grant period and provide an evaluation on the effectiveness of the activities in achieving the purposes of the grant. Grantees must collect unduplicated data and only share non-personally identifying information, in the aggregate, regarding services to their clients in order to comply with federal, state, or tribal reporting, evaluation, or data collection requirements, 42 U.S.C. 10406(c)(5)(D). Client-level data shall not be shared with a third party, regardless of encryption, hashing, or other data security measures, without a written, time-limited release as described in 42 U.S.C. 10406(c)(5).

Respondents: FVPSA-funded grantees.

Annual Burden Estimates
Instrument | Number of respondents | Number of responses per respondent | Average burden hours per response | Annual burden hours
State FVPSA Grant Performance Progress Report | 52 | 1 | 10 | 520
Tribal FVPSA Grant Performance Progress Report | 150 | 1 | 10 | 1,500
State Domestic Violence Coalition Performance Progress Report | 56 | 1 | 10 | 560

Estimated Total Annual Burden Hours: 2,580.

Authority: The Family Violence Prevention and Services Act, 42 U.S.C. 10401.

John M. Sweet, Jr.,
ACF/OPRE Certifying Officer.

[FR Doc. 2020-14673 Filed 7-7-20; 8:45 am]

BILLING CODE 4184-32-P